DEPARTMENT OF COMMERCE

International Trade Administration

[C-122-874]

Fresh Mushrooms From Canada: Initiation of Countervailing Duty Investigation

AGENCY: Enforcement and Compliance, International Trade Administration, Department of Commerce.

DATES: Applicable January 2, 2026.

FOR FURTHER INFORMATION CONTACT: Gene Calvert, AD/CVD Operations, Enforcement and Compliance, International Trade Administration, U.S. Department of Commerce, 1401 Constitution Avenue NW, Washington, DC 20230; telephone: (202) 482-3586.

SUPPLEMENTARY INFORMATION:

The Petition

On September 16, 2025, the U.S. Department of Commerce (Commerce) received a countervailing duty (CVD) petition concerning imports of fresh mushrooms from Canada, filed in proper form on behalf of the Fresh Mushrooms Fair Trade Coalition and its individual members (collectively, the petitioners), domestic producers of fresh mushrooms.¹ The CVD Petition was accompanied by an antidumping duty (AD) petition concerning imports of fresh mushrooms from Canada.²

¹ See Petitioners' Letter, “Petitions for the Imposition of Antidumping and Countervailing Duties,” dated September 16, 2025 (Petitions). The individual members of the Fresh Mushrooms Fair Trade Coalition are Giorgio Fresh Co. (including Donna Bella Farms LLC and Giorgi Mushroom Co.), J-M Farms LLC, Kennett Square Mushroom Operation LLC, Modern Mushroom Farms, Inc., Needham's Mushroom Farms, Inc., and Sher-Rockee Mushroom Farms.

² Id.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴

³ See Memorandum, “Deadlines Affected by Shutdown of the Federal Government,” dated November 14, 2025.

⁴ See Memorandum, “Tolling of All Case Deadlines,” dated November 24, 2025.

Between September 18 and September 24, 2025, Commerce requested supplemental information pertaining to certain aspects of the Petition in supplemental questionnaires.⁵ Between September 23 and 26, 2025, the petitioners filed timely responses to these requests for additional information.⁶

⁵ See Commerce's Letters, “Supplemental Questions,” dated September 18, 2025 (First General Issues Supplemental Questionnaire); see also “Supplemental Questions,” dated September 18, 2025; and “Second Supplemental Questions,” dated September 24, 2025 (Second General Issues Supplemental Questionnaire).

⁶ See Petitioners' Letters, “Petitioners' Amendment to Volume I Relating to Request for the Imposition of Antidumping and Countervailing Duties on Imports from Canada,” dated September 23, 2025 (First General Issues Supplement); see also “Petitioners' Supplement to Volume III Relating to Request for the Imposition of Countervailing Duties on Imports from Canada,” dated September 23, 2025; and “Petitioners' 2nd Amendment to Volume I Relating to Request for the Imposition of Antidumping and Countervailing Duties on Imports from Canada,” dated September 26, 2025 (Second General Issues Supplement).

On December 15, 2025, Commerce extended the initiation deadline by 20 days to poll the domestic industry in accordance with section 702(c)(4)(D) of the Tariff Act of 1930, as amended (the Act), because it was “not clear from the Petitions whether the industry support criteria have been met . . . .” ⁷

⁷ See Notice of Extension of the Deadline for Determining the Adequacy of the Antidumping and Countervailing Duty Petitions: Fresh Mushrooms from Canada, 90 FR 60059 (December 23, 2025) (Initiation Extension Notice).

In accordance with section 702(b)(1) of the Act, the petitioners allege that the Government of Canada (GOC) is providing countervailable subsidies, within the meaning of sections 701 and 771(5) of the Act, to producers of fresh mushrooms from Canada, and that such imports are materially injuring, or threatening material injury to, the domestic industry producing fresh mushrooms in the United States. Consistent with section 702(b)(1) of the Act and 19 CFR 351.202(b), for those alleged programs on which we are initiating a CVD investigation, the Petition was accompanied by information reasonably available to the petitioners supporting their allegations.

The petitioners filed the Petition as interested parties, as defined in sections 771(9)(C), (F), and (G) of the Act.⁸ Commerce finds that the petitioners demonstrated sufficient industry support with respect to the initiation of the requested CVD investigation and filed the Petition on behalf of the domestic industry.⁹

⁸ The Fresh Mushrooms Fair Trade Coalition is an interested party as defined in section 771(9)(F) of the Act. The individual members are interested parties as defined in section 771(9)(C) and (G) of the Act.

⁹ See section on “Determination of Industry Support for the Petition,” infra.

Period of Investigation (POI)

Because the Petition was filed on September 16, 2025, the POI is January 1, 2024, through December 31, 2024.¹⁰

¹⁰ See 19 CFR 351.204(b)(2).

Scope of the Investigation

The product covered by this investigation is fresh mushrooms from Canada. For a full description of the scope of this investigation, see the appendix to this notice.

Comments on the Scope of the Investigation

Between September 18 and September 24, 2025, Commerce requested information and clarification from the petitioners regarding the proposed scope to ensure that the scope language in the Petition is an accurate reflection of the products for which the domestic industry is seeking relief.¹¹ Between September 23 and 26, 2025, the petitioners provided clarifications regarding the scope.¹² The description of merchandise covered by this investigation, as described in the appendix to this notice, reflects these clarifications.

¹¹ See First General Issues Supplemental Questionnaire; see also Second General Issues Supplemental Questionnaire.

¹² See First General Issues Supplement at 2-3; see also Second General Issues Supplement at 2-4.

As discussed in the Preamble to Commerce's regulations, we are setting aside a period for interested parties to raise issues regarding product coverage (i.e., scope).¹³ Commerce will consider all scope comments received from interested parties and, if necessary, will consult with interested parties prior to the issuance of the preliminary determination. If scope comments include factual information, all such factual information should be limited to public information.¹⁴ Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on January 22, 2026, which is 20 calendar days from the signature date of this notice. Any rebuttal comments, which may include factual information, and should also be limited to public information, must be filed by 5:00 p.m. ET on February 2, 2026, which is the next business day after 10 calendar days from the initial comment deadline.¹⁵

¹³ See Antidumping Duties; Countervailing Duties, Final Rule, 62 FR 27296, 27323 (May 19, 1997) (Preamble); see also 19 CFR 351.312.

¹⁴ See 19 CFR 351.102(b)(21) (defining “factual information”).

¹⁵ The deadline for rebuttal scope comments falls on February 1, 2026, which is a Sunday. Commerce's practice dictates that where a deadline falls on a weekend or federal holiday, the appropriate deadline is the next business day (in this instance, February 2, 2026). See 19 CFR 351.303(b)(1) (“For both electronically filed and manually filed documents, if the applicable due date falls on a non-business day, the Secretary will accept documents that are filed on the next business day.”)

Commerce requests that any factual information that parties consider relevant to the scope of this investigation be submitted during that period. However, if a party subsequently finds that additional factual information pertaining to the scope of the investigation may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹⁶ An electronically filed document must be received successfully in its entirety by the time and date it is due.

¹⁶ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOC of the receipt of the Petition and provided an opportunity for consultations with respect to the Petition.¹⁷ Commerce held consultations with the GOC on September 29, 2025.¹⁸

¹⁷ See Commerce's Letter, “Invitation for Consultations to Discuss the Countervailing Duty Petition,” dated September 16, 2025.

¹⁸ See Memorandum, “Consultations with the Government of Canada,” dated November 21, 2025 (GOC Consultations Memo). The GOC submitted its consultations paper on October 1, 2025. See GOC's Letter, “Government of Canada's Consultations Materials,” dated October 1, 2025 (GOC's Letter).

Determination of Industry Support for the Petition

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁹ they do so for different purposes and pursuant to a separate and distinct authority. In addition, Commerce's determination is subject to limitations of time and information. Although this may result in different definitions of the like product, such differences do not render the decision of either agency contrary to law.²⁰

¹⁹ See section 771(10) of the Act.

²⁰ See USEC, Inc. v. United States, 132 F.Supp.2d 1, 8 (CIT 2001) (citing Algoma Steel Corp., Ltd. v. United States, 688 F.Supp.639, 644 (CIT 1988), aff'd Algoma Steel Corp., Ltd. v. United States, 865 F.2d 240 (Fed. Cir. 1989)).

In investigations involving a processed agricultural product that is produced from a raw agricultural product, section 771(4)(E) of the Act provides that the producers or growers of the raw agricultural product may be considered part of the industry producing the processed product if: (1) the processed agricultural product is produced from the raw agricultural product through a continuous line of production, and (2) there is a substantial coincidence of economic interest between the producers or growers of the raw agricultural product and the processors of the processed agricultural product based upon relevant economic factors, which may include price, added market value, or other economic interrelationships. Thus, to determine whether the petition has the requisite industry support, if it involves a processed agricultural product, the statute directs Commerce to look to growers, processors, and workers who produce the domestic like product. The petitioners state that the requirements under section 771(4)(E) of the Act are satisfied.²¹

²¹ See Petition at Volume I (pages 13-14).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigation.²² Based on our analysis of the information submitted on the record, we have determined that fresh mushrooms, as defined in the scope, constitutes a single domestic like product, and we have analyzed industry support in terms of that domestic like product.²³

²² For a discussion of the domestic like product analysis as applied to this case and information regarding industry support, see Checklist, “Countervailing Duty Investigation Initiation Checklist: Fresh Mushrooms from Canada,” dated concurrently with, and hereby adopted by, this notice (Canada CVD Initiation Checklist), at Attachment II, “Analysis of Industry Support for the Antidumping and Countervailing Duty Petitions Covering Fresh Mushrooms from Canada” (Attachment II). This checklist is on file electronically via ACCESS.

²³ For further discussion, see Canada CVD Initiation Checklist at Attachment II.

On September 29, 2025, we received timely filed comments on industry support from the Canadian Mushroom Growers' Association (CMGA), a trade association comprised of Canadian mushroom growers/exporters.²⁴ In addition, in consultations held by Commerce officials with representatives of the GOC on September 29, 2025, the GOC raised industry support concerns relating to both the CVD and AD Petitions.²⁵ On October 1, 2025, we also received timely filed comments on industry support from the GOC in its consultations paper.²⁶ On October 1, 2025, the petitioners responded to the comments from CMGA in a timely filed rebuttal submission.²⁷

²⁴ See CMGA's Letter, “Mushrooms Canada's Industry Support Comments and Request to Postpone Initiation for Lack of Standing and to Poll the Domestic Industry,” dated September 29, 2025.

²⁵ See GOC Consultations Memo; see also GOC's Letter.

²⁶ See GOC's Letter.

²⁷ See Petitioners' Letter, “Petitioners' Response to Mushrooms Canada's Industry Support Comments,” dated October 1, 2025 (Petitioners' Rebuttal).

On December 15, 2025, Commerce extended the initiation deadline by 20 days to poll the industry in accordance with section 702(c)(4)(D) of the Act, because it was “not clear from the Petitions whether the industry support criteria have been met . . . .” ²⁸ On December 18, 2025, we issued polling questionnaires to all known producers identified in the Petitions.²⁹ We requested that the companies complete the polling questionnaire and certify their responses by the due date specified in the cover letter to the questionnaire.³⁰

²⁸ See Initiation Extension Notice.

²⁹ See Commerce's Letter, “Polling Questionnaire,” dated December 18, 2025.

³⁰ Id.

Our analysis of the data we received in the polling questionnaire responses indicates that the domestic producers and workers who support the Petition account for at least 25 percent of the total production of the domestic like product and more than 50 percent of the production of the domestic like product produced by that portion of the industry expressing support for, or opposition to, the Petition.³¹ Accordingly, Commerce determines that the industry support requirements of section 702(c)(4)(A) of the Act have been met and that the Petition was filed on behalf of the domestic industry within the meaning of section 702(b)(1) of the Act.³²

³¹ See Attachment II of the Canada CVD Initiation Checklist.

³² Id.

Injury Test

Because Canada is a “Subsidies Agreement Country” within the meaning of section 701(b) of the Act, section 701(a)(2) of the Act applies to this investigation. Accordingly, the ITC must determine whether imports of the fresh mushrooms from Canada materially injure, or threaten material injury to, a U.S. industry.

Allegations and Evidence of Material Injury and Causation

The petitioners allege that imports of fresh mushrooms from Canada are benefiting from countervailable subsidies and that such imports are causing, or threaten to cause, material injury to the U.S. industry producing the domestic like product. In addition, the petitioners allege that subject imports exceed the negligibility threshold provided for under section 771(24)(A) of the Act.³³

³³ For further information regarding negligibility and the injury allegation, see Canada CVD Initiation Checklist at Attachment III, “Analysis of Allegations and Evidence of Material Injury and Causation for the Antidumping Duty and Countervailing Duty Petitions Covering Fresh Mushrooms from Canada” (Attachment III).

The petitioners contend that the industry's injured condition is illustrated by a significant increase in the volume of subject imports; increased market share of subject imports; lost sales and revenues; underselling and price depression and/or suppression; declines in production, capacity utilization, and employment variables; and negative impact on financial performance.³⁴ We assessed the allegations and supporting evidence regarding material injury, threat of material injury, causation, as well as negligibility, and we have determined that these allegations are properly supported by adequate evidence, and meet the statutory requirements for initiation.³⁵

³⁴ Id.

³⁵ Id.

Initiation of CVD Investigation

Based upon the examination of the Petition and supplemental responses, we find that they meet the requirements of section 702 of the Act. Therefore, we are initiating a CVD investigation to determine whether imports of fresh mushrooms from Canada benefit from countervailable subsidies conferred by the GOC. In accordance with section 703(b)(1) of the Act and 19 CFR 351.205(b)(1), unless postponed, we will make our preliminary determination no later than 65 days after the date of this initiation.

Based on our review of the Petition, we find that there is sufficient information to initiate a CVD investigation on all 27 programs alleged by the petitioners. For a full discussion of the basis for our decision to initiate on each program, see the Canada CVD Initiation Checklist. A public version of the initiation checklist for this investigation is available on ACCESS.

Respondent Selection

In the Petition, the petitioners identified 24 companies in Canada as producers and/or exporters of fresh mushrooms.³⁶ Commerce intends to follow its standard practice in CVD investigations and calculate company-specific subsidy rates in the investigation. Following standard practice in CVD investigations, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigation,” in the appendix.

³⁶ See Petition at Volume I (page 10 and Exhibit GEN-6); see also First General Issues Supplement at 5 and Exhibit GEN-SUPP-2.

On November 21, 2025, Commerce released CBP data on imports of fresh mushrooms from Canada under administrative protective order (APO) to all parties with access to information protected by APO and indicated that interested parties wishing to comment on the CBP data and/or respondent selection must do so within three days of the publication date of this notice in the Federal Register.³⁷ Comments must be filed electronically using ACCESS. An electronically filed document must be received successfully in its entirety via ACCESS by 5:00 p.m. ET on the specified deadline. Commerce will not accept rebuttal comments regarding the CBP data or respondent selection.

³⁷ See Memorandum, “Release of U.S. Customs and Border Protection Entry Data,” dated November 21, 2025.

Interested parties must submit applications for disclosure under APO in accordance with 19 CFR 351.305(b). Instructions for filing such applications may be found on Commerce's website at https://www.trade.gov/administrative-protective-orders.

Distribution of a Copy of the Petition

In accordance with section 702(b)(4)(A) of the Act and 19 CFR 351.202(f), a copy of the public version of the Petition has been provided to the GOC via ACCESS. To the extent practicable, we will attempt to provide a copy of the public version of the Petition to each exporter named in the Petition, as provided under 19 CFR 351.203(c)(2).

ITC Notification

Commerce will notify the ITC of its initiation, as required by section 702(d) of the Act.

Preliminary Determination by the ITC

The ITC will preliminarily determine, within 25 days after the date on which the ITC receives notice from Commerce of initiation of the investigation, whether there is a reasonable indication that imports of fresh mushrooms from Canada are materially injuring, or threatening material injury to, a U.S. industry.³⁸ A negative ITC determination will result in the investigation being terminated.³⁹ Otherwise, this CVD investigation will proceed according to statutory and regulatory time limits.

³⁸ See Fresh Mushrooms from Canada; Revised Schedule for the Subject Proceeding, 90 FR 52094 (November 19, 2025).

³⁹ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁰ and, if the information is submitted to rebut, clarify, or correct factual information already on the record, to provide an explanation identifying the information already on the record that the factual information seeks to rebut, clarify, or correct.⁴¹ Time limits for the submission of factual information are addressed in 19 CFR 351.301, which provides specific time limits based on the type of factual information being submitted. Interested parties should review the regulations prior to submitting factual information in this investigation.

⁴⁰ See 19 CFR 351.301(b).

⁴¹ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴² For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴³

⁴² See 19 CFR 351.302.

⁴³ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴⁴ Parties must use the certification formats provided in 19 CFR 351.303(g).⁴⁵ Commerce intends to reject factual submissions if the submitting party does not comply with the applicable certification requirements.

⁴⁴ See section 782(b) of the Act.

⁴⁵ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁴⁶

⁴⁶ See Administrative Protective Order, Service, and Other Procedures in Antidumping and Countervailing Duty Proceedings, 88 FR 67069 (September 29, 2023).

This notice is issued and published pursuant to sections 702 and 777(i) of the Act, and 19 CFR 351.203(c).

Dated: January 2, 2026.
Christopher Abbott,
Deputy Assistant Secretary for Policy and Negotiations, performing the non-exclusive functions and duties of the Assistant Secretary for Enforcement and Compliance.

Appendix

Scope of the Investigation

The merchandise covered by this investigation is fresh mushrooms of the genus Agaricus (fresh mushrooms). This includes, but is not limited to, fresh mushrooms of the species Agaricus bisporus, which are commonly referred to as button mushrooms, chestnut mushrooms, cremini or crimini mushrooms, baby bellas, portabella or portobello mushrooms, table mushrooms, or as white or browns. Fresh mushrooms include whole mushrooms, as well as mushrooms that have been sliced, diced, or separated into stems and pieces prior to importation. Fresh mushrooms may also be imported in bulk or loose form, or may be imported in individual containers packaged for retail sale. The scope of this investigation includes all fresh mushrooms of the genus Agaricus, whether or not organic, and irrespective of age, cut, color, size, species, or packaging.

Subject merchandise may be cleaned, washed, inspected, subjected to metal detection, sliced, diced, or de-stemmed, and/or vacuum cooled prior to importation, but otherwise undergoes minimal further processing. The scope of this investigation covers fresh mushrooms of the genus Agaricus regardless of end use, including both mushrooms destined for the fresh market and mushrooms intended for food processing.

Fresh mushrooms of the genus Agaricus are currently classifiable under Harmonized Tariff Schedule of the United States (HTSUS) statistical reporting number 0709.51.0100. Although the HTSUS statistical reporting number is provided for convenience and customs purposes, the written description of the scope of this investigation is dispositive.

[FR Doc. 2026-00199 Filed 1-7-26; 8:45 am]

BILLING CODE 3510-DS-P